AGENCY FOR INTERNATIONAL DEVELOPMENT

Board for International Food and Agricultural Development; Notice of Meeting

Pursuant to the Federal Advisory Committee Act, notice is hereby given of the public meeting of the Board for International Food and Agricultural Development (BIFAD). The meeting will be held from 2:30 p.m. to 5:00 p.m. EDT on Tuesday, April 9, 2019 via livestream online at http://www.aplu.org/projects-and-initiatives/international-programs/bifad/bifad-meetings.html.

The Board for International Food and Agricultural Development (BIFAD), an advisory committee to the U.S. Agency for International Development (USAID), will convene a virtual public meeting on April 9 2019 to solicit feedback from the U.S. university community on their experiences implementing the regulations that govern USAID funded Exchange Visitors (EVs) and Participant Training (PT), as per the Automated Directives System (ADS) 252 and ADS 253. The ADS contains the organization and functions of USAID, along with the policies and procedures that guide the Agency's programs and operations.

For questions about registration, please contact Devin Furguson at dferguson@aplu.org or (202) 478-6030. For questions about BIFAD, please contact Clara Cohen, Designated Federal Officer for BIFAD in the Bureau for Food Security at USAID. Interested persons may write to her in care of the U.S. Agency for International Development, Ronald Reagan Building, Bureau for Food Security, 1300 Pennsylvania Avenue NW, Washington, DC 20523-2110 or telephone her at (202) 712-0119.

Clara Cohen,
Supervisory Agricultural Development Specialist, Bureau for Food Security, U.S. Agency for International Development.

[FR Doc. 2019-05345 Filed 3-20-19; 8:45 am]

BILLING CODE 6116-02-P